DEPARTMENT OF ENERGY

Federal Energy Regulatory Commission

Combined Notice of Filings #1

Take notice that the Commission received the following exempt wholesale generator filings:

Docket Numbers: EG13-26-000

Applicants: BayWa r.e. Mozart, LLC

Description: Notice of Self-Certification of Exempt Wholesale Generator Status of BayWa r.e. Mozart, LLC.

Filed Date: 4/10/13

Accession Number: 20130410-5093

Comments Due: 5 p.m. ET 5/1/13

Take notice that the Commission received the following electric rate filings:

Docket Numbers: ER10-2794-012; ER10-2849-011; ER11-2028-012; ER12-1825-010; ER11-3642-010

Applicants: EDF Trading North America, LLC, EDF Industrial Power Services (NY), LLC, EDF Industrial Power Services (IL), LLC, EDF Industrial Power Services (CA), LLC, Tanner Street Generation, LLC

Description: Notice of Change in Status of EDF Trading North America, LLC, et al.

Filed Date: 4/11/13

Accession Number: 20130411-5015

Comments Due: 5 p.m. ET 5/2/13

Docket Numbers: ER11-3551-000; ER11-3822-000; ER11-3553-000 ER11-3554-000; ER11-3824-000

Applicants: Glacial Energy of New York

Description: Second Revised Refund Report of Glacial Energy of New York, et al.

Filed Date: 4/10/13

Accession Number: 20130410-5157

Comments Due: 5 p.m. ET 5/1/13

Docket Numbers: ER12-668-002

Applicants: Midwest Independent Transmission System Operator, Inc.

Description: 2013-04-11 ELMP to be effective 12/31/9998.

Filed Date: 4/11/13

Accession Number: 20130411-5077

Comments Due: 5 p.m. ET 4/19/13

Docket Numbers: ER13-1258-000

Applicants: Land O'Lakes, Inc.

Description: Initial Tariff Baseline to be effective 6/14/2013.

Filed Date: 4/11/13

Accession Number: 20130411-5039

Comments Due: 5 p.m. ET 5/2/13

Docket Numbers: ER13-1259-000

Applicants: New England Power Pool Participants Committee, ISO New England Inc.

Description: Regulation Market Opportunity Cost Change to be effective 7/1/2013.

Filed Date: 4/11/13

Accession Number: 20130411-5057

Comments Due: 5 p.m. ET 5/2/13

Docket Numbers: ER13-1260-000

Applicants: Niagara Mohawk Power Corporation

Description: National Grid USA on behalf of its subsidiary Niagara Mohawk Power Corporation submits Motion for Expedited Consideration and Limited Tariff Waiver.

Filed Date: 4/11/13

Accession Number: 20130411-5059

Comments Due: 5 p.m. ET 4/22/13

Docket Numbers: ER13-1261-000

Applicants: Tampa Electric Company

Description: Rate Schedule No. 97 with Seminole Electric Cooperative, Inc. to be effective 8/31/2012.

Filed Date: 4/11/13

Accession Number: 20130411-5066

Comments Due: 5 p.m. ET 5/2/13

Docket Numbers: ER13-1262-000

Applicants: Tampa Electric Company

Description: Rate Schedule No. 98 with Florida Power Corporation to be effective 8/31/2012.

Filed Date: 4/11/13

Accession Number: 20130411-5067

Comments Due: 5 p.m. ET 5/2/13

Docket Numbers: ER13-1263-000

Applicants: New England Power Company

Description: National Grid USA on behalf of its subsidiary New England Power Company submits Motion for Expedited Consideration and Limited Tariff Waiver.

Filed Date: 4/11/13

Accession Number: 20130411-5074

Comments Due: 5 p.m. ET 4/22/13

Docket Numbers: ER13-1264-000

Applicants: Southwest Power Pool, Inc.

Description: 2221R1 Prairie Breeze Wind Energy, LLC. GIA to be effective 3/22/2013.

Filed Date: 4/11/13

Accession Number: 20130411-5102

Comments Due: 5 p.m. ET 5/2/13

Take notice that the Commission received the following open access transmission tariff filings:

Docket Numbers: OA98-13-001

Applicants: City Utilities of Springfield, Missouri

Description: Notice of Material Change and Plan to Relinquish Waiver of City Utilities of Springfield, MO.

Filed Date: 4/10/12

Accession Number: 20120410-5169

Comments Due: 5 p.m. ET 5/2/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2013.
Nathaniel J. Davis, Sr.,
Deputy Secretary.

[FR Doc. 2013-09102 Filed 4-17-13; 8:45 am]

BILLING CODE 6717-01-P